DEPARTMENT OF COMMERCE

International Trade Administration

[A-533-879, A-570-066]

Polytetrafluoroethylene Resin From India and the People's Republic of China: Postponement of Preliminary Determinations in the Less-Than-Fair-Value Investigations

AGENCY: Enforcement and Compliance, International Trade Administration, Department of Commerce.

DATES: Applicable February 27, 2018.

FOR FURTHER INFORMATION CONTACT: Mark Kennedy at (202) 482-7883 (India), and Thomas Schauer at (202) 482-0410 (the People's Republic of China (China)), AD/CVD Operations, Office I, Enforcement and Compliance, International Trade Administration, U.S. Department of Commerce, 1401 Constitution Avenue NW, Washington, DC 20230.

SUPPLEMENTARY INFORMATION:

Background

On October 18, 2017, the Department of Commerce (Commerce) initiated less-than-fair-value (LTFV) investigations of imports of polytetrafluoroethylene (PTFE) resin from India and the People's Republic of China.¹ Commerce exercised its discretion to toll all deadlines affected by the closure of the Federal Government from January 20 through 22, 2018. If the new deadline falls on a non-business day, in accordance with Commerce's practice, the deadline will become the next business day. The revised deadline for the preliminary results of these investigations is March 12, 2018.²

¹ See Polytetrafluoroethylene Resin from India and the People's Republic of China: Initiation of Less-Than-Fair-Value Investigations, 82 FR 49587 (October 26, 2017) (Initiation Notice).

² See Memorandum, “Deadlines Affected by the Shutdown of the Federal Government,” dated January 23, 2018 (Tolling Memorandum). All deadlines in this segment of the proceeding have been extended by 3 days.

Postponement of Preliminary Determination

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) The petitione ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is The Chemours Company FC LLC.

On February 12, 2018, the petitioner submitted a timely request that Commerce postpone the preliminary determination in the LTFV investigation.⁴ The petitioner stated that it requests postponement of the preliminary determinations of these investigations for the following reasons: the respondents selected for individual examination have requested and been granted extensions of time to file responses to the original questionnaire, which necessarily have delayed the filing of deficiency comments by the petitioner; and additionally, Commerce has only begun to issue supplemental questionnaires, and there will not be sufficient time for the petitioner to review and respond to these questionnaires prior to the current date of the preliminary determination.⁵

⁴ See Letters from the petitioner, “Polytetrafluoroethylene (PTFE) Resin from India: Petitioner's Request to Postpone the Antidumping Investigation Preliminary Determination,” dated February 12, 2018 and “Polytetrafluoroethylene (PTFE) Resin from the People's Republic of China: Petitioner's Request to Postpone the Antidumping Investigation Preliminary Determination,” dated February 12, 2018 (Requests for Postponement).

⁵ See Requests for Postponement at 2.

For the reasons stated above and because there are no compelling reasons to deny the request, Commerce, in accordance with section 733(c)(1)(A) of the Act, is postponing the deadline for the preliminary determination by 50 days (i.e., 190 days after the date on which this investigation was initiated). As a result, Commerce will issue its preliminary determination no later than April 30, 2018. In accordance with section 735(a)(1) of the Act and 19 CFR 351.210(b)(1), the deadline for the final determination of this investigation will continue to be 75 days after the date of publication of the preliminary determination, unless postponed at a later date.

This notice is issued and published pursuant to section 733(c)(2) of the Act and 19 CFR 351.205(f)(1).

Dated: February 20, 2018.
Christian Marsh,
Deputy Assistant Secretary for Enforcement and Compliance.

[FR Doc. 2018-03921 Filed 2-26-18; 8:45 am]

BILLING CODE 3510-DS-P